GENERAL SERVICES ADMINISTRATION

41 CFR Parts 300-3, 301-10, 301-31, 301-50, 301-51, 301-70 Through 301-76, Chapter 301, 302-1 Through 302-9, 302-11, 302-12, 302-14 Through 302-17, 303-70, 304-2, 304-3, and 304-5

[Notice MA-2025-09; Docket No. GSA-FTR-2025-0002, Sequence No. 7]

Federal Travel Regulation: Updating the FTR With Diversity, Equity, Inclusion, and Accessibility Language; Planned Rescission

AGENCY: Office of Government-wide Policy (OGP); General Services Administration, (GSA).

ACTION: Notification of upcoming rescission of FTR Case 2022-05.

SUMMARY: GSA plans to issue a final rule that rescinds Federal Travel Regulation (FTR) Case 2022-05, titled “Updating the FTR With Diversity, Equity, Inclusion, and Accessibility Language,” published on February 16, 2024.

DATES: April 16, 2025.

ADDRESSES: Those interested can view FTR Case 2022-05 at https://www.regulations.gov/document/GSA-FTR-2024-0005-0001.

FOR FURTHER INFORMATION CONTACT: For clarification of content please contact Mr. Sean Lambert, OGP, Office of Asset and Transportation Management, at 771-233-2475, or by email at travelpolicy@gsa.gov. Please cite Notice of Intent to Rescind FTR Case 2022-05.

SUPPLEMENTARY INFORMATION: GSA plans to rescind FTR Case 2022-05 (FR Doc. 2024-02852 (89 FR 12250, February 16, 2024)) in line with two Executive orders (E.O.(s) or Orders), both signed on January 20, 2025: Defending Women From Gender Ideology Extremism And Restoring Biological Truth To The Federal Government (E.O. 14168) and Initial Rescissions Of Harmful Executive Orders And Actions (E.O. 14148). These Orders, respectively, require Federal agencies to recognize only two sexes, male and female, and take immediate action to effectuate the revocation of certain E.O.s which are not in line with the current Administration's priorities. Therefore, GSA will be reverting language in the FTR that was changed pursuant to FTR Case 2022-05, to sex-specific pronouns such as he, she, his, or her.

Larry Allen,
Associate Administrator, Office of Government-wide Policy.

[FR Doc. 2025-06275 Filed 4-15-25; 8:45 am]

BILLING CODE 6820-14-P